LEGAL SERVICES CORPORATION

Sunshine Act Meeting

DATE AND TIME: The Legal Services Corporation's Board of Directors and its six committees will meet October 16-18, 2016. On Sunday, October 16, the first meeting will commence at 12:30 p.m., Mountain Standard Time (MST), with the meeting thereafter commencing promptly upon adjournment of the immediately preceding meeting. On Monday, October 17, the first meeting will commence at 8:15 a.m., MST, with the next meeting commencing promptly upon adjournment of the immediately preceding meeting. On Tuesday, October 18, the first meeting will commence at 9:00 a.m., MST, it will be followed by the closed session meeting of the Board of Directors which will commence promptly upon adjournment of the prior meeting.

LOCATION: The Hotel Andaluz, 125 2nd Street NW., Albuquerque, New Mexico 87102.

PUBLIC OBSERVATION: Unless otherwise noted herein, the Board and all committee meetings will be open to public observation. Members of the public who are unable to attend in person but wish to listen to the public proceedings may do so by following the telephone call-in directions provided below.

CALL-IN DIRECTIONS FOR OPEN SESSIONS: • Call toll-free number: 1-866-451-4981;

• When prompted, enter the following numeric pass code: 5907707348

• Once connected to the call, your telephone line will be automatically “MUTED”.

• To participate in the meeting during public comment press #6 to “UNMUTE” your telephone line, once you have concluded your comments please press *6 to “MUTE” your line.

Members of the public are asked to keep their telephones muted to eliminate background noises. To avoid disrupting the meeting, please refrain from placing the call on hold if doing so will trigger recorded music or other sound. From time to time, the presiding Chair may solicit comments from the public.

Meeting Schedule

Sunday, October 16, 2016—Time *

* Please note that all times in this notice are in Eastern Standard Time.

1. Operations and Regulations Committee—12:30 p.m.

2. Finance Committee

3. Institutional Advancement Committee

4. Communications Subcommittee of the Institutional Advancement Committee

5. Audit Committee

Monday, October 17, 2016

1. Governance & Performance Review Committee—8:15 a.m.

2. Delivery of Legal Services Committee

Tuesday, October 18, 2016

1. Board of Directors—9:00 a.m.

STATUS OF MEETING: Open, except as noted below.

Board of Directors—Open, except that, upon a vote of the Board of Directors, a portion of the meeting may be closed to the public to hear briefings by management and LSC's Inspector General, and to consider and act on the General Counsel's report on potential and pending litigation involving LSC, development activities, and on a list of prospective Leaders Council members.**

** Any portion of the closed session consisting solely of briefings does not fall within the Sunshine Act's definition of the term “meeting” and, therefore, the requirements of the Sunshine Act do not apply to such portion of the closed session. 5 U.S.C. 552b (a) (2) and (b). See also 45 CFR 1622.2 & 1622.3.

Institutional Advancement Committee—Open, except that the meeting may be closed to the public to receive a briefing on the development activities, and donor report. **

Audit Committee—Open, except that the meeting may be closed to the public to hear a briefing on the Office of Compliance and Enforcement's active enforcement matters. **

A verbatim written transcript will be made of the closed session of the Board, Institutional Advancement Committee, and Audit Committee. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

October 16, 2016

Operations & Regulations Committee

Open Session

1. Approval of agenda

2. Approval of minutes of the Committee's meeting of July 18, 2016

3. Review of Operations and Regulations Committee Charter

4. Consider and act on Final Rule of Proposed Rulemaking for 45CFR part 1627—Subgrants with consolidation of transfer provisions from 45 CFR part 1610.7

• Ron Flagg, General Counsel, Corporate Secretary and Vice President for Legal Affairs

• Stefanie Davis, Assistant General Counsel

• Mark Freedman, Senior Associate General Counsel

5. Consider and act on Proposed Rule for 45 CFR part 1630—Cost Standards and the Property Acquisition and Management Manual

• Ron Flagg, General Counsel, Corporate Secretary and Vice President for Legal Affairs

• Stefanie Davis, Assistant General Counsel

6. Consider and act on Justification Memo for 45 CFR part 1629—Bonding on Recipients

• Ron Flagg, General Counsel, Corporate Secretary and Vice President for Legal Affairs

• Stefanie Davis, Assistant General Counsel

7. Consider and act on Technical Amendments for 45 CFR part 1602—Procedures for disclosure of information under FOIA

• Ron Flagg, General Counsel, Corporate Secretary and Vice President for Legal Affairs

• Stefanie Davis, Assistant General Counsel

• Helen Guyton, Assistant General Counsel

8. Public comment

9. Consider and act on other business

10. Consider and act on motion to adjourn meeting______

October 16, 2016

FINANCE COMMITTEE

Open Session

1. Approval of agenda

2. Approval of minutes of the Committee's Open Session telephonic meeting of June 28, 2016

3. Approval of minutes of the Committee's Open Session telephonic meeting of July 14, 2016

4. Approval of minutes of the Committee's Open Session meeting of July 17, 2016

5. Review of Finance Committee Charter

6. Presentation of LSC's Financial Report for the eleven-month period ending July 31, 2016

• David Richardson, Treasurer/Comptroller

7. Report on status of FY 2017 appropriations process

• Carol Bergman, Vice President for Government Relations & Public Affairs

8. Consider and act on Resolution #2016-XXX, Temporary Operating Budget for FY 2017

• David Richardson, Treasurer/Comptroller

9. Report on status of FY 2018 appropriations process

• Carol Bergman, Vice President for Government Relations & Public Affairs

10. Public comment

11. Consider and act on other business

12. Consider and act on adjournment of meeting______

Institutional Advancement Committee

Open Session

1. Approval of agenda

2. Approval of minutes of the Committee's Open Session meeting of April 17, 2016

3. Approval of minutes of the Committee's Open Session meeting of July 17, 2016

4. Update on Leaders Council

• John G. Levi, chairman

5. Development Report

• Wendy Rhein, Chief Development Officer

6. Review of Institutional Advancement Committee Charter

7. Public Comment

8. Consider and act on other business

9. Consider and act on motion to adjourn open session meeting and proceed to a closed session

Closed Session

1. Approval of the minutes of the Committee's Closed Session meeting of July 17, 2016

2. Development activities report

3. Consider and act on motion to approve Leaders Council invitees

4. Consider and act on other business

5. Consider and act on motion to adjourn the meeting______

Communications Subcommittee of the Institutional Advancement Committee

Open Session

1. Approval of agenda

2. Approval of minutes of the Subcommittee's Open Session meeting of July 17, 2016

3. Communications analytics update

• Carl Rauscher, Director of Communications and Media Relations

4. Approval of proposed Communications Subcommittee Charter

5. Board visits to LSC programs

• John G. Levi, Chairman of the Board

• Julie Reiskin, Subcommittee Chair

6. Public comment

7. Consider and act on other business

8. Consider and act on motion to adjourn the meeting______

October 16, 2016

Audit Committee

Open Session

1. Approval of agenda

2. Approval of minutes of the Committee's Open Session meeting of July 17, 2016

3. Consider and act on Resolution #2016-XXX, Audit Committee Charter

4. Briefing by Office of Inspector General

• Jeffrey Schanz, Inspector General

5. Discussions with the Office of Inspector General (OIG) pursuant to Section VIII(A)(3) and Section VIII(A)(4) of the Audit Committee Charter

• John Seeba, Assistant Inspector General for Audits

6. Discussions with OIG, Management, and WithumSmith+Brown on the contemplated scope and plan for LSC's required annual audit, pursuant to Section VIII(A)(1) of the Committee Charter

• David Richardson, Treasurer and Comptroller

• John Seeba, Assistant Inspector General for Audits

7. Pursuant to Section VIII(C)(6) of the Committee Charter, review LSC's efforts, including training and education, to help ensure that LSC employees and grantees act ethically and safeguard LSC funds

• Ron Flagg, General Counsel, Corporate Secretary and Vice President for Legal Affairs

• Lynn Jennings, Vice President for Grants Management

• David Richardson, Treasurer/Comptroller

• Jeffrey Schanz, Inspector General

8. Management update regarding risk management

• Ron Flagg, General Counsel, Corporate Secretary and Vice President for Legal Affairs

9. Briefing about follow-up by the Office of Compliance and Enforcement on referrals by the Office of Inspector General regarding audit reports and annual Independent Public audits of grantees

• Lora Rath, Director, Office of Compliance and Enforcement

• John Seeba, Assistant Inspector General for Audits

10. Public comment

11. Consider and act on other business

Closed Session

1. Approval of minutes of the Committee's Closed Session meeting of July 17, 2016

2. Briefing by the Office of Compliance and Enforcement on active enforcement matter(s) and follow-up to open investigation referrals from the Office of Inspector

• Lora Rath, Director, Office of Compliance and Enforcement

3. Consider and act on motion to adjourn the meeting______

October 17, 2016

Governance and Performance Review Committee

Open Session

1. Approval of agenda

2. Approval of minutes of the Committee's Open Session meeting of July 18, 2016

3. Approval of minutes of the Committee's Closed Session meeting of July 18, 2016

4. Review of Governance and Performance Review Committee Charter

5. Report on 2016 Board and Committee evaluations

• Carol Bergman, Vice President for Government Relations & Public Affairs

6. Report on foundation grants and LSC's research agenda

• Jim Sandman, President

7. Report on transition planning

• Report on White House transition Carol Bergman, Vice President for Government Relations & Public Affairs

• Report on Board transition Ron Flagg, General Counsel, Corporate Secretary and Vice President for Legal Affairs

8. Public comment

9. Consider and act on other business

10. Consider and act on motion to adjourn meeting______

October 17, 2016

Delivery of Legal Services Committee

Open Session

1. Approval of agenda

2. Approval of minutes of the Committee's Open Session meeting on July 18, 2016

3. Review of Delivery of Legal Services Committee Charter

4. Review and discussion of future topics for Committee meetings

• Jim Sandman, President

• Lynn Jennings, Vice President for Grants Management

• Janet LaBella, Director, Office of Program Performance

5. Review of schedule of Program Quality Visits conducted by the Office of Program Performance

• Janet LaBella, Director, Office of Program Performance

6. Panel presentation and Committee discussion of development and implementation of grantee priorities and case acceptance guidelines: Performance Area 1, Criteria 2

• Ed Marks, Executive Director, New Mexico legal Aid

• Lee Richardson, Executive Director, Legal Aid of Arkansas

• Rhodia Thomas, Executive Director, MidPenn Legal Services

• Janet LaBella, Director, Office of Program Performance (Moderator)

7. Public comment

8. Consider and act on other business

9. Consider and act on motion to adjourn the meeting______

October 18, 2016

Board of Directors

Open Session

1. Pledge of Allegiance

2. Approval of agenda

3. Chairman's Report

4. Members' Report

5. President's Report

6. Inspector General's Report

7. Consider and act on the report of the Finance Committee

8. Consider and act on the report of the Audit Committee

9. Consider and act on the report of the Operations and Regulations Committee

10. Consider and act on the report of the Governance and Performance Review Committee

11. Consider and act on the report of the Institutional Advancement Committee

12. Consider and act on the report of the Delivery of Legal Services Committee

13. Consider and act on Resolution in Memoriam Vernon J. Roanhorse

14. Public comment

15. Consider and act on other business

16. Consider and act on whether to authorize a closed session of the Board to address items listed below

Closed Session

1. Approval of minutes of the Board's Closed Session meeting of July 17, 2016

2. Briefing by Management

3. Briefing by Inspector General

4. Consider and act on General Counsel's report on potential and pending litigation involving LSC

5. Consider and act on list of prospective funders

6. Consider and act on motion to adjourn meeting

CONTACT PERSON FOR INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: October 6, 2016.
Katherine Ward,
Executive Assistant to the Vice President for Legal Affairs, General Counsel & Corporate Secretary.

[FR Doc. 2016-24638 Filed 10-6-16; 4:15 pm]

BILLING CODE 7050-01-P